DEPARTMENT OF HOMELAND SECURITY

Transportation Security Administration

[Docket No. TSA-2005-21956]

Privacy Act of 1974: System of Records; Safety Information System (SIS)

AGENCY: Transportation Security Administration, DHS.

ACTION: Notice to establish a system of records; request for comments.

SUMMARY: The Transportation Security Administration (TSA) is establishing one new system of records under the Privacy Act of 1974, the Safety Information System (SIS) (DHS/TSA 020). TSA will maintain this system to provide an information source to comply with the occupational health and safety recordkeeping and reporting requirements of the Department of Labor, Occupational Safety and Health Administration (OSHA).

DATES: Submit comments by August 26, 2005.

ADDRESSES: You may submit comments, identified by TSA docket number to this document, using any one of the following methods:

Comments Filed Electronically: You may submit comments through the docket Web site at http://dms.dot.gov. You also may submit comments through the Federal eRulemaking portal at http://www.regulations.gov.

Comments Submitted by Mail, Fax, or In Person: Address or deliver your written, signed comments to the Docket Management System, U.S. Department of Transportation, Room Plaza 401, 400 Seventh Street, SW., Washington, DC 20590-0001; Fax: 202-493-2251.

See SUPPLEMENTARY INFORMATION for format and other information about comment submissions.

FOR FURTHER INFORMATION CONTACT: Lisa S. Dean, Privacy Officer, Office of Transportation Security Policy, TSA-9, 601 South 12th Street, Arlington, VA 22202-4220; telephone (571) 227-3947; facsimile (571) 227-2555.

SUPPLEMENTARY INFORMATION:

Comments Invited

TSA invites interested persons to participate by submitting written comments, data, or views. See ADDRESSES above for information on where to submit comments.

With each comment, please include your name and address, identify the docket number at the beginning of your comments, and give the reason for each comment. The most helpful comments reference a specific portion of the rulemaking, explain the reason for any recommended change, and include supporting data. You may submit comments and material electronically, in person, by mail, or fax as provided under ADDRESSES, but please submit your comments and material by only one means. If you submit comments by mail or delivery, submit them in two copies, in an unbound format, no larger than 8.5 by 11 inches, suitable for copying and electronic filing.

If you want TSA to acknowledge receipt of your comments submitted by mail, include with your comments a self-addressed, stamped postcard on which the docket number appears. We will stamp the date on the postcard and mail it to you.

TSA will file in the public docket all comments received by TSA, except for comments containing confidential information and sensitive security information (SSI),¹ TSA will consider all comments received on or before the closing date for comments and will consider comments filed late to the extent practicable. The docket is available for public inspection before and after the comment closing date.

¹ “Sensitive Security Information” or “SSI” is information obtained or developed in the conduct of security activities, the disclosure of which would constitute an unwarranted invasion of privacy, reveal trade secrets or privileged or confidential information, or be detrimental to the security of transportation. The protection of SSI is governed by 49 CFR part 1520.

Handling of Confidential or Proprietary Information and Sensitive Security Information (SSI) Submitted in Public Comments

Do not submit comments that include trade secrets, confidential commercial or financial information, or SSI to the public regulatory docket. Please submit such comments separately from other comments on the document. Comments containing this type of information should be appropriately marked as containing such information and submitted by mail to the address listed in FOR FURTHER INFORMATION CONTACT section.

Upon receipt of such comments, TSA will not place the comments in the public docket and will handle them in accordance with applicable safeguards and restrictions on access. TSA will hold them in a separate file to which the public does not have access, and place a note in the public docket that TSA has received such materials from the commenter. If TSA receives a request to examine or copy this information, TSA will treat it as any other request under the Freedom of Information Act (FOIA) (5 U.S.C. 552) and the Department of Homeland Security's (DHS') FOIA regulation found in 6 CFR part 5.

Reviewing Comments in the Docket

Please be aware that anyone is able to search the electronic form of all comments received into any of our dockets by the name of the individual submitting the comment (or signing the comment, if submitted on behalf of an association, business, labor union, etc.). You may review the applicable Privacy Act Statement published in the Federal Register on April 11, 2000 (65 FR 19477), or you may visit http://dms.dot.gov.

You may review the comments in the public docket by visiting the Dockets Office between 9 a.m. and 5 p.m., Monday through Friday, except Federal holidays. The Dockets Office is located on the plaza level of the Nassif Building at the Department of Transportation address, previously provided under ADDRESSES. Also, you may review public dockets on the Internet at http://dms.dot.gov.

Availability of Document

You can get an electronic copy using the Internet by—

(1) Searching the Department of Transportation's electronic Docket Management System (DMS) Web page (http://dms.dot.gov/search);

(2) Accessing the Government Printing Office's Web page at http://www.gpoaccess.gov/fr/index.html; or

(3) Visiting TSA's Law and Policy Web page at http://www.tsa.gov and accessing the link for “Law and Policy” at the top of the page.

In addition, copies are available by writing or calling the office in the FOR FURTHER INFORMATION CONTACT section. Make sure to identify the docket number of this notice.

Background

On November 26, 2004 (69 FR 68793), the Occupational Safety and Health Administration (OSHA) issued a final rule amending the occupational injury and illness recording and reporting requirements applicable to Federal agencies. This final rule makes the Federal sector's recordkeeping and reporting requirements essentially identical to the private sector's by adopting applicable OSHA recordkeeping provisions for Federal agencies. In addition to ensuring that injuries and illnesses suffered by all groups of employees are recorded, the final rule is intended to: Produce more useful injury and illness records; collect better information about the incidence of occupational injuries and illnesses at the establishment level; create reporting and recording criteria that are consistent among Federal agencies; enable injury and illness comparisons between the Federal and private sectors; and promote improved employee awareness and involvement in the recording and reporting of job-related injuries and illnesses. The final rule will also assist in achieving the stated goal of Executive Order (E.O.) 12196 (45 FR 12769, Feb. 27, 1980) that Federal agencies comply with all OSHA standards, and generally, assure worker protection in a manner comparable to the private sector.

System of Records

DHS/TSA 020

System name:

Safety Information System (SIS).

Security classification:

Unclassified.

System locations:

TSA's Information Technology contractor maintains and stores official records in electronic form on secure servers at their office locations. TSA occupational safety and health personnel may access the official records from their individual workstations at TSA field locations or Headquarters offices at 601 South 12th Street, Arlington, VA 22202-4220.

Categories of individuals covered by the system:

TSA employees and contractors under direct supervision of TSA, who are involved in or report an incident resulting in an occupationally-caused injury, illness, or death; employees and contractors involved in or reporting incidents not resulting in, but having the potential to have caused damage, injury, or death; employees and contractors (or their survivors) who file a claim for benefits under the Federal Employees' Compensation Act; and employees and contractors who report unsafe or unhealthful working conditions.

Categories of records in the system:

Records may include: Reports of occupational injuries and illnesses; workers' compensation claims information filed by, or on behalf of, injured employees or contractors; medical bill payment records; notes of telephone conversations conducted in connection with claims; general information relating to the status of vocational and/or medical rehabilitation. Specific data elements may include personally identifying information, such as: Name, Social Security Number, birth date, gender, home address, occupation, and salary (for employees of the Department only); date and location of the incident; and information received from various investigative agencies.

Authorities for maintenance of the system:

5 U.S.C. 301, 7902; 29 U.S.C. 651 et seq.; 49 U.S.C. 114; E.O. 12196 (45 FR 12769, Feb. 27, 1980), 3 CFR, 1980 Comp., p. 145; 29 CFR part 1960.

Purpose(s):

TSA will use this system to:

(1) Provide an information source for compliance with the Occupational Safety and Health Act and other legal requirements;

(2) Provide a documented record of job-related incidents, injuries, and illnesses for measuring safety and health programs' effectiveness;

(3) Provide summary data of accident, injury, and illness information to TSA and DHS management in a number of formats for analytical purposes in establishing programs to reduce or eliminate loss producing hazards or conditions; and

(4) Use as a reference when adjudicating tort and employee claims.

TSA will use the summary data of occupational injuries or illnesses maintained in this system for analytical purposes to improve TSA's accident prevention policies, procedures, standards, and operations, as well as ensure internal data quality assurance.

Routine uses of records maintained in the system, including categories of users and the purposes of such uses:

(1) To the appropriate Federal, State, local, tribal, territorial, foreign, or international agency responsible for investigating, prosecuting, enforcing, or implementing a statute, rule, regulation, or order, where TSA becomes aware of an indication of a violation or potential violation of civil or criminal law or regulation.

(2) To contractors, grantees, experts, consultants, or other like persons, when necessary, to perform a function or service related to this system of records for which they have been engaged. Such recipients are required to comply with the Privacy Act, 5 U.S.C. 552a, as amended.

(3) To a Federal, State, local, tribal, territorial, foreign, or international agency, where such agency has requested information relevant or necessary for the hiring or retention of an individual, or the issuance of a security clearance, license, contract, grant, or other benefit.

(4) To a Federal, State, local, tribal, territorial, foreign, or international agency, if necessary, to obtain information relevant to a TSA decision concerning the hiring or retention of an employee, the issuance of a security clearance, license, contract, grant, or other benefit.

(5) To third parties during the course of an investigation into any matter associated with an occupationally-related accident, injury, or illness, to the extent necessary to obtain information pertinent to the investigation.

(6) To the Department of Justice (DOJ) or other Federal agency for purposes of conducting litigation or proceedings before any court, adjudicative or administrative body, when (a) DHS, or (b) any employee of DHS in his/her official capacity, or (c) any employee of DHS in his/her individual capacity where DOJ or DHS has agreed to represent the employee, or (d) the United States or any agency thereof, is a party to the litigation or proceeding, or has an interest in such litigation or proceeding.

(7) To a congressional office from the record of an individual in response to an inquiry from that congressional office made at the request of the individual.

(8) To the National Archives and Records Administration or other appropriate Federal agency, in records management inspections being conducted under the authority of 44 U.S.C. 2904 and 2906.

(9) To any agency or instrumentality charged under applicable law with the protection of the public health or safety under exigent circumstances where the public health or safety is at risk.

(10) To the Department of Justice, United States Attorney's Office, or other appropriate Federal agency for further collection action on any delinquent debt when circumstances warrant, or to a debt collection agency for the purpose of debt collection.

(11) To prepare periodic statistical reports on employees' health and injury status for transmission to and review by the Department of Labor;

(12) To the Secretary of Labor or an authorized representative under duly promulgated regulations;

(13) To the Office of Personnel Management, Merit Systems Protection Board, Equal Employment Opportunity Commission, and/or similar agencies as required to litigate or otherwise process individual claims;

(14) To physicians, the Department of Labor, various state departments of labor and industry groups, and contractors who use information to: (a) Ascertain suitability of an employee for job assignments with regard to health (b) provide benefits under Federal programs or contracts, and (c) maintain a record of occupational injuries or illnesses and the performance of regular diagnostic and treatment services to patients.

(15) To doctors, pharmacies, and other health care providers for the purpose of treating the injured party investigating the claim, conducting medical examinations, physical rehabilitation or other services, or obtaining medical evaluations.

(16) To public or private rehabilitation agencies to whom the injured party has been referred for vocational rehabilitation services so that they may properly evaluate the injured party's experience, physical limitations and future employment capabilities.

(17) To Federal, state, and local agencies conducting similar or related investigations to verify whether prohibited dual benefits were provided, whether benefits have been or are being paid properly, including whether dual benefits prohibited by Federal law are being paid; and salary offset and debt collection procedures including those actions required by the Debt Collection Act of 1982.

Policies and practices for storing, retrieving, accessing, retaining, and disposing of records in the system:

Storage:

Contractors maintain and store official records in electronic form in the system location office. Employees or contractors designated to enter and access data create and update the information on their individual workstations, and make it accessible to TSA occupational safety and health personnel.

Retrievability:

Personnel may retrieve data records electronically stored by employee name, social security number or other personal identifier, or case number; and paper records, where applicable, by case number or alphabetically by name. TSA field offices will access and retrieve information maintained in the system pertaining only to employees under their supervision. TSA Headquarters personnel responsible for administration of the Occupational Safety and Health program will have access to SIS data.

Safeguards:

Information in this system is protected from unauthorized access through appropriate administrative, physical, and technical safeguards. Unauthorized personnel are denied physical access to the location where records are stored. For computerized records, safeguards are in accordance with generally acceptable information security guidelines via use of security codes, passwords, Personal Identification Numbers (PINs), and other similar safeguards.

Retention and disposal:

Employee case files are destroyed when 30 years old in accordance with TSA Records Schedule 2400 et seq. Computer files are deleted after the expiration of the retention period authorized for the disposal of the hard copy file or when no longer needed, whichever is later.

System manager(s) and address:

Director, Occupational Safety, Health, and Environment, Office of Administration, TSA-17, 701 South 12th Street, Arlington, VA 22202-4220.

Notification procedure:

To determine if this system contains a record relating to you, write to the system manager at the address indicated above and provide your full name, current address, date of birth, place of birth, and a description of information that you seek, including the time frame during which the record(s) may have been generated. You may also provide your social security number or other unique identifier(s), but you are not required to do so. Individuals requesting access must comply with the Department of Homeland Security's Privacy Act regulations on verification of identity (6 CFR 5.21(d)).

Record access procedure:

Same as “Notification procedure” above.

Contesting record procedure:

Same as “Notification procedure” above.

Record source categories:

(1) The individual or their representative;

(2) Their dependents;

(3) Witnesses;

(4) Employing agency;

(5) Medical personnel and institutions;

(6) Departmental Records;

(7) Office of Workers' Compensation Program;

(8) Office of Personnel Management;

(9) State and Federal records;

(10) Motor Vehicle Accident Reports (SF-91); and

(11) Excerpts of police reports, witness statements, and general correspondence.

Exemptions claimed for the system:

None.

Issued in Arlington, Virginia, on July 21, 2005.
Lisa S. Dean,
Privacy Officer.

[FR Doc. 05-14819 Filed 7-26-05; 8:45 am]

BILLING CODE 4910-62-P